POSTAL SERVICE

39 CFR Part 111

General Information on Postal Service

AGENCY: Postal Service.

ACTION: Final rule.

SUMMARY: The Postal Service announces the issuance of Issue 300, dated January 8, 2006; Issue 300, dated March 15, 2007; and Issue 300, dated May 14, 2007, of the Mailing Standards of the United States Postal Service, Domestic Mail Manual (DMM), and their incorporation by reference in the Code of Federal Regulations.

DATES: Effective Date: This final rule is effective on May 7, 2008. The incorporation by reference of Issue 300, dated January 8, 2006, of the DMM and Issue 300 dated July 15, 2007, of the DMM is approved by the Director of the Federal Register as of May 7, 2008.

FOR FURTHER INFORMATION CONTACT: Sharon Daniel, (202) 268-7304.

SUPPLEMENTARY INFORMATION: The most recent Issue 300 of the Domestic Mail Manual was issued on July 15, 2007. It replaced the previous Issue 300 of the DMM and contained all DMM revisions from January 8, 2006 through July 15, 2007. The Issue 300 of the DMM that preceded that issue, was issued on January 8, 2006 and contained all DMM revisions from January 5, 2005 through January 8, 2006.

These new Issues of the DMM contain all USPS domestic mailing standards, organized in a way that is more intuitive to the user. These new issues continue to (1) increase the user's ability to find information, (2) increase confidence that users have found all the information they need, and (3) reduce the need to consult multiple chapters of the Manual to locate necessary information. Issue 300, dated July 15, 2007, set forth specific changes, such as new standards throughout the DMM to support the pricing changes recommended by the Postal Regulatory Commission in Docket No. R2006-1 and approved by the Governors of the United States Postal Service. New prices were implemented on May 14, 2007 for all classes of mail except Periodicals. Issue 300, dated January 8, 2006, also set forth specific changes such as new prices throughout the DMM to adopt the postal rates and fees resulting from the R2005-1 rate case.

Changes to mailing standards will continue to be published through Federal Register notices and the Postal Bulletin, and will appear in the next printed version of Mailing Standards of the United States Postal Service, Domestic Mail Manual, and in the online version available via Postal Explorer http://pe.usps.com.

List of Subjects in 39 CFR Part 111

Administrative practice and procedure, Incorporation by reference.

In view of the considerations discussed above, the Postal Service hereby amends 39 CFR part 111 as follows:

PART 111—GENERAL INFORMATION ON POSTAL SERVICE

1. The authority citation for part 111 continues to read as follows:

Authority: 39 U.S.C. 552(a); 39 U.S.C. 101, 401, 403, 404, 414, 416, 3001-3011, 3201-3219, 3403-3406, 3621, 3622, 3626, 3632, 3633, 5001.

2. Amend § 111.3(f) by adding the following new entries at the end of the table:

§ 111.3 Amendment to the Mailing Standards of the United States Postal Service, Domestic Mail Manual.

* * * * *

(f) * * *

Transmittal letter for issue | Dated | Federal Register publication
* * * * * * *
Issue 300 | January 8, 2006 | [Insert FR citation for this Final Rule].
Issue 300 | July 15, 2007 | [Insert FR citation for this Final Rule].

3. Amend § 111.4 by removing “March 23, 2005” and adding “May 7, 2008.”

Neva R. Watson,
Attorney, Legislative.

[FR Doc. E8-9498 Filed 5-6-08; 8:45 am]

BILLING CODE 7710-12-P